DEPARTMENT OF THE INTERIOR

National Park Service

Notice of Availability of Draft General Management Plan/Environmental Impact Statement for the Jefferson National Expansion Memorial, Missouri

AGENCY: Department of the Interior, National Park Service.

ACTION: Notice of Availability of Draft General Management Plan/Environmental Impact Statement for the Jefferson National Expansion Memorial, Missouri.

SUMMARY: Pursuant to Section 102(2)(C) of the National Environmental Policy Act of 1969, 42 U.S.C. 4332(2)(c), the National Park Service (NPS) announces the availability of a draft General Management Plan/Environmental Impact Statement (GMP/EIS) for the Jefferson National Expansion Memorial (Memorial), Missouri.

DATES: The draft GMP/EIS will remain available for public review for 60 days following the publishing of the notice of availability in the Federal Register by the U.S. Environmental Protection Agency. Public meetings will be held during the 60-day review period on the GMP/EIS in St. Louis, Missouri, early in 2009. Specific dates and locations will be announced in local and regional media sources of record and on the Memorial's Web site.

You may submit your comments by any one of several methods. You may comment via the Internet through the Memorial Web site at http://www.nps.gov/jeff; simply click on the link to the GMP/EIS. You may also comment via the Internet through the NPS Planning, Environment, and Public Comment Web site at http://parkplanning.nps.gov; simply click on the link to the Jefferson National Expansion Memorial. You may mail comments to Superintendent Bradley, Jefferson National Expansion Memorial, 11 North 4th Street, St. Louis, Missouri 63102. Finally, you may hand-deliver comments to the Memorial headquarters at the address above.

ADDRESSES: Copies of the draft GMP/EIS are available from the Superintendent, Jefferson National Expansion Memorial, 11 North 4th Street, St. Louis, Missouri 63102.

SUPPLEMENTARY INFORMATION: This draft GMP/EIS will guide the management of the Memorial for the next 25 years. The preferred alternative, two other action alternatives, and a no action alternative are fully analyzed as part of the draft GMP/EIS.

The preferred alternative, Alternative 3—Program Expansion, calls for revitalizing the Memorial by expanding programming, facilities and partnerships. A design competition would be held to generate ideas for programmatic revitalization of the Memorial grounds in an area bounded by the North and South Reflecting Ponds, Memorial Drive, Washington Avenue, Poplar Street, and Luther Ely Smith Square. The look of the Memorial grounds could be changed as long as changes are compatible with and respectful of the status as a National Historic Landmark. The final design entries will undergo environmental and historic preservation review by the NPS, prior to final approval by the Agency.

FOR FURTHER INFORMATION CONTACT: Contact Superintendent Bradley, Jefferson National Expansion Memorial, at the address or telephone number above.

Before including your address, telephone number, electronic mail address, or other personal identifying information in your comments, you should be aware that your entire comment (including your personal identifying information) may be made publicly available at any time. While you can ask us in your comments to withhold your personal identifying information from public review, we cannot guarantee that we will be able to do so. We will make all submissions from organizations or businesses, from individuals identifying themselves as representatives or officials, of organizations or businesses, available for public inspection in their entirety.

Dated: December 15, 2008.
Ernest Quintana,
Regional Director, Midwest Region.

[FR Doc. E9-824 Filed 1-15-09; 8:45 am]

BILLING CODE 4310-70-P